DEPARTMENT OF COMMERCE

Foreign-Trade Zones Board

[B-51-2013]

Foreign-Trade Zone (FTZ) 267—Fargo, North Dakota; Notification of Proposed Production Activity; CNH America, LLC (Construction and Agricultural Equipment Production); Fargo, North Dakota

The Fargo Municipal Airport Authority, grantee of FTZ 267, submitted a notification of proposed production activity to the FTZ Board on behalf of CNH America, LLC (CNH), located in Fargo, North Dakota. The notification conforming to the requirements of the regulations of the FTZ Board (15 CFR 400.22) was received on May 10, 2013.

The CNH facilities are located within Site 2 of FTZ 267. The facilities currently have FTZ authority to produce tractors, wheel loaders, combine subassemblies and related equipment using certain foreign-sourced components. The current request involves additional agricultural and construction equipment, related subassemblies and components. Pursuant to 15 CFR 400.14(b), the additional FTZ authority would be limited to the specific foreign-status materials and components and specific finished products listed in the submitted notification (as described below) and subsequently authorized by the FTZ Board.

Production under FTZ procedures could exempt CNH from customs duty payments on the foreign status components used in export production. On its domestic sales, CNH would be able to choose the duty rates during customs entry procedures that apply to additional agricultural and construction equipment and related subassemblies, including cab units, tractors, steps, undercarriages and track kits for combines, fenders, radiators, undercarriages and frames for tractors, battery doors, hydraulic tanks, draw bars and connecting links (duty rates range from free to 4%) for the foreign status inputs noted below and in the existing scope of authority. Customs duties also could possibly be deferred or reduced on foreign status production equipment.

The additional components and materials sourced from abroad include: Rubber hoses/belts/floor mats; rings; cardboard floor pads/protectors/boxes/sheets/packaging; manuals; instruction sheets; pin stops; fittings; screws; washers; clips; ground straps; latches; plates; pumps; valves; fans; bushings; ballast assemblies; heaters; speakers; color monitors; rear view camera and camera kits; sensors; temperature sensor cables; switches; signals; electrical modules and switches; LED lights; radio antenna cable; wire/harness assemblies; bumpers; cab suspension system components; and heater controls (duty rates range from free to 8.5%).

Public comment is invited from interested parties. Submissions shall be addressed to the FTZ Board's Executive Secretary at the address below. The closing period for their receipt is July 15, 2013.

A copy of the notification will be available for public inspection at the Office of the Executive Secretary; Foreign-Trade Zones Board; Room 21013; U.S. Department of Commerce; 1401 Constitution Avenue; NW; Washington; DC 20230-0002; and in the “Reading Room” section of the Board's Web site; which is accessible via www.trade.gov/ftz.

For further information; contact Diane Finver at Diane.Finver@trade.gov or (202) 482-1367.

Dated: May 28, 2013.
Elizabeth Whiteman,
Acting Executive Secretary.

[FR Doc. 2013-13089 Filed 5-31-13; 8:45 am]

BILLING CODE 3510-DS-P